EXPORT-IMPORT BANK OF THE UNITED STATES

Economic Impact Policy

This notice is to inform the public that the Export-Import Bank of the United States has received an application to guarantee approximately $20 million in commercial bank financing for the export of approximately $22 million of U.S. iron ore mining equipment to Ukraine. The U.S. exports will enable the Ukrainian company to produce approximately 10 million metric tons of iron ore pellets per year during the 7-year repayment term of the loan. Available information indicates that this new Ukrainian iron ore production will be consumed in the Ukraine, Europe (Eastern, Western and Central), China, and India. Interested parties may submit comments on this transaction by e-mail to economic.impact@exim.gov or by mail to 811 Vermont Avenue, NW., Room 1238, Washington, DC 20571, within 14 days of the date this notice appears in the Federal Register.

Jonathan J. Cordone,
Senior Vice President and General Counsel.

[FR Doc. 2010-9289 Filed 4-21-10; 8:45 am]

BILLING CODE 6690-01-P